DEPARTMENT OF HEALTH AND HUMAN SERVICES

Centers for Medicare & Medicaid Services

[Document Identifier: CMS-10078, CMS-10197, CMS-10185 and CMS-685]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Matching Grants to States for the Operation of High Risk Pools and Supporting Regulations at 42 CFR 148.316, 148.318, and 148.320; Use: CMS is requiring this information as a condition of eligibility for grants that were authorized in the Trade Act of 2002 (Pub. L. 107-210). The information is necessary to determine if a State applicant meets the necessary eligibility criteria for a grant as required by the law. The respondents will be States that have a high risk pool as defined in Section 2744(c)(2) of the Public Health Service Act. The grants will provide matching funds to States that incur losses in the operation of high risk pools. High risk pools are set up by States to provide health insurance to individuals that cannot obtain health insurance in the private market because of a history of illness. Form Number: CMS-10078 (OMB#: 0938-0887); Frequency: Reporting—On occasion; Affected Public: State, local, or tribal government; Number of Respondents: 33; Total Annual Responses: 33; Total Annual Hours: 1,320.

2. Type of Information Collection Request: New collection; Title of Information Collection: Evaluation of the Medicare National Competitive Bidding Program for DME; Use: Section 302(b) of The Medicare Prescription Drug, Improvement, and Modernization Act of 2003 (MMA) requires the Centers for Medicare and Medicaid Services (CMS) to begin a program of competitive bidding for durable medical equipment (DME), supplies, certain orthotics, and enteral nutrients and related equipment and supplies. MMA Section 303(d) requires a Report to Congress on the program, covering program savings, reductions in cost sharing, impacts on access to and quality of affected goods and services, and beneficiary satisfaction. This project's purpose is to provide information for this Report to Congress. Form Number: CMS-10197 (OMB#: 0938--New); Frequency: Reporting—Other: Baseline and Follow-up; Affected Public: Individuals or Households, Business or other for-profit, Federal Government and Not-for-profit institutions; Number of Respondents: 12,671; Total Annual Responses: 12,671; Total Annual Hours: 6,557.

3. Type of Information Collection Request: Extension of a currently approved collection; Title of Information Collection: Medicare Part D Reporting Requirements and Supporting Regulations under 42 CFR 423.505; Use: Data collected via Medicare Part D Reporting Requirements will be an integral resource for oversight, monitoring, compliance and auditing activities necessary to ensure quality provision of the Medicare Prescription Drug Benefit to beneficiaries. Data will be validated, analyzed, and utilized for trend reporting by CMS. If outliers or other data anomalies are detected, CMS will work in collaboration with other CMS divisions for follow-up and resolution. Form Number: CMS-10185 (OMB#: 0938-0992); Frequency: Reporting: Quarterly and Semi-annually; Affected Public: Business or other for-profit; Number of Respondents: 3,203; Total Annual Responses: 12,812; Total Annual Hours: 102,496.

4. Type of Information Collection Request: Extension of a currently approved collection; Title of Information Collection: End Stage Renal Disease (ESRD) Network Semi-Annual Cost Report Forms and Supporting Regulations in 42 CFR 405.2110 and 42 CFR 405.2112; Use: Section 1881(c) of the Social Security Act establishes End Stage Renal Disease (ESRD) Network contracts. The regulations designated at 42 CFR 405.2110 and 405.2112 designated 18 ESRD Networks which are funded by renewable contracts. These contracts are on 3-year cycles. To better administer the program, CMS is requiring contractors to submit semi-annual cost reports. The purpose of the cost reports is to enable the ESRD Networks to report costs in a standardized manner. This will allow CMS to review, compare and project ESRD Network costs during the life of the contract. Form Number: CMS-685 (OMB#: 0938-0657); Frequency: Reporting—Semi-annually; Affected Public: Not-for-profit institutions; Number of Respondents: 18; Total Annual Responses: 36; Total Annual Hours: 108.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on August 15, 2006.

CMS, Office of Strategic Operations and Regulatory Affairs, Division of Regulations Development—A, Attention: Melissa Musotto, Room C4-26-05, 7500 Security Boulevard, Baltimore, Maryland 21244-1850.

Dated: June 9, 2006.
Michelle Shortt,
Director, Regulations Development Group, Office of Strategic Operations and Regulatory Affairs.

[FR Doc. E6-9478 Filed 6-15-06; 8:45 am]

BILLING CODE 4120-01-P